DEPARTMENT OF ENERGY

Bonneville Power Administration

Santiam-Bethel Transmission Line Project

AGENCY: Bonneville Power Administration (BPA), Department of Energy (DOE).

ACTION: Notice of finding of no significant impact (FONSI) and floodplain statement of findings.

SUMMARY: BPA is issuing this FONSI on its proposal to rebuild the first 17 miles of the Santiam-Chemawa transmission line from Santiam Substation to the line's connection (tap) to Portland General Electric's (PGE) Bethel Substation to improve transmission system reliability in the Salem area of northwestern Oregon. A Floodplain Statement of Findings is also included.

ADDRESSES: For copies of this FONSI and/or the Environmental Assessment (EA), please call BPA's toll-free document request line at 1-800-622-4520, and record your name, address, project name, and the document(s) you wish. The documents are also on the internet at www.efw.bpa.gov/cgi-bin/PSA/NEPA/SUMMARIES/SantiamBethel.

FOR FURTHER INFORMATION CONTACT: Tish Levesque—KEC-4, Bonneville Power Administration, PO. Box 3621, Portland, Oregon, 97208-3621; direct telephone number 503-230-3469; toll-free telephone number 1-800-282-3713; fax number 503-230-5699; e-mail tklevesque@bpa.gov.

SUPPLEMENTARY INFORMATION: BPA's existing Santiam-Chemawa No. 1 230-kV transmission line is about 25 miles long and is located in Linn and Marion Counties, Oregon. BPA is proposing to rebuild the first 17 miles of the Santiam-Chemawa transmission line from Santiam Substation to the tap to PGE's Bethel Substation. BPA's Santiam-Chemawa No. 1 transmission line serves BPA customers that in turn serve communities in the Willamette Valley. This line provides voltage support and also backs up BPA's 500-kV transmission system in case one of BPA's 500-kV lines or substations goes out of service.

BPA would replace the existing single-circuit 230-kilovolt (kV) line with towers that could support two circuits (double-circuit) in the existing right-of-way. The existing line supplies both Bethel Substation and BPA's Chemawa Substation. The new lines would eliminate overloading of the existing line from Santiam Substation to the tap to Bethel Substation by having one new line supply Bethel Substation and the other new line supply Chemawa Substation. BPA has prepared an Environmental Assessment (DOE/EA-1366) evaluating the proposed project. Based on the analysis in the EA, BPA has determined that the Proposed Action is not a major Federal action significantly affecting the quality of the human environment, within the meaning of the National Environmental Policy Act (NEPA) of 1969. Therefore, the preparation of an Environmental Impact Statement (EIS) is not required and BPA is issuing this FONSI which includes a Floodplain Statement of Findings.

The existing BPA Santiam-Chemawa 230-kV transmission line is at risk of overloading during peak winter electrical power usage (maximum demand). During normal and extreme winter peak load conditions, outages on BPA's 500-kV or 230-kV transmission grid in the area could cause the Santiam Substation to Bethel Substation section of the Santiam-Chemawa line to overload. For example, an outage of BPA's Pearl-Marion No. 1 500-kV line during extreme cold winter peak load conditions could cause the line to overload. During normal winter peak load conditions, an outage of BPA's Santiam-Albany No. 1 230-kV line or an outage of BPA's Albany 230/115-kV transformer would also overload the line.

An overload could damage electrical equipment sensitive to power fluctuations. An overload could cause the line to sag too close to the ground, which could harm people or property under the line. In addition, an overload could cause switches on the Santiam-Chemawa line to automatically take the line out of service, which could create blackouts in the Salem area. Overloading the line could also cause permanent damage to the conductor and BPA would be required to remove the line from service. Removing the line from service could curtail electrical power in the area. BPA needs to improve system reliability by rebuilding the Santiam-Chemawa line to a double-circuit line.

Low, minor, short-term, or temporary impacts from construction of the Proposed Action would occur to the following resources: Fish and wildlife, soils, water quality, land use, socioeconomics, visual resources, and vegetation resources. Though noise would disturb wildlife close to the construction area, wildlife would most likely return after the disturbance is removed. Although unlikely, construction may create indirect or temporary increases in soil erosion to streams near the right-of-way, which could affect water quality and fish habitat. Mitigation measures would be used to prevent erosion. Potential impacts would diminish after disturbed areas are restored and erosion and runoff control measures take effect. Construction-related noise, dust, traffic disruption, and crop harvest disruption would also temporarily disturb human populations. Spending in the local community and an increase in employment would be short-term but beneficial. Minor visual impacts may occur from construction activities in certain locations along the right-of-way. The new towers would be taller than the existing towers. Noxious weeds could grow in the right-of-way as the ground surface and vegetation are disturbed during construction. Radio and television interference from the new line could occur temporarily, but BPA would promptly correct all interference.

A biological assessment (BA) was prepared to evaluate the potential effect of the project on the bald eagle, northern spotted owl, Fender's blue butterfly, the Upper Willamette River chinook salmon Evolutionarily Significant Unit (ESU), the Upper Willamette River steelhead ESU, Oregon chub, Nelson's checker-mallow, Bradshaw's lomatium, Willamette daisy, golden Indian paintbrush, water Howellia, and Kincaid's lupine. Based on a review of the latest Federal threatened and endangered species lists, review of habitat requirements, and use of project mitigation measures proposed in the BA and the EA, it is BPA's opinion that the proposed project “may affect but is not likely to adversely affect” all the listed species that may be present in the project area except the northern spotted owl. It is BPA's opinion that the proposed project would have “no effect” on the northern spotted owl. The National Marine Fisheries Service and U.S. Fish and Wildlife Service concurred with these findings.

Background research indicated that no prehistoric or historic-period archaeological sites have been recorded within a one-mile radius of any tower locations or right-of-way along the 17-mile portion of line to be rebuilt. As part of the field study, 90 discrete areas were surveyed and 33 areas were investigated using shovel test probes. No archaeological materials were observed on the ground surface at any of the tower locations or within the right-of-way between the towers. One prehistoric artifact was recovered from a total of 34 shovel test probes excavated along the 17-mile portion of right-of-way. Artifact isolates are not recognized as sites by the Oregon State Historic Preservation Officer (SHPO) and the single prehistoric artifact does not represent a cultural resource potentially eligible for listing in the National Register of Historic Places. It is BPA's opinion that the proposed project would have no effect on cultural resources. The Oregon SHPO concurred with these findings. During review of the Preliminary EA, the Confederated Tribes of Grand Ronde discussed with BPA the presence of areas of cultural sensitivity in the project vicinity. To ensure protection of the culturally sensitive areas, a member of the Tribe would be present during construction activities at those sites.

No impacts are expected to wetlands and floodplains, or public health and safety.

BPA also studied the No Action Alternative. For the No Action Alternative, BPA would not rebuild the Santiam-Chemawa transmission line. As a result, normal and extreme cold winter load conditions could cause thermal overloading of existing facilities.

The Proposed Action would not violate Federal, State, or local law or requirements imposed for protection of the environment. All applicable permits would be obtained.

Floodplain Statement of Findings: This is a Floodplain Statement of Findings prepared in accordance with 10 CFR part 1022. A Notice of Floodplain and Wetlands Involvement was published in the Federal Register on May 11, 2001, and a floodplain and wetlands assessment was incorporated in the EA. BPA is proposing to rebuild its existing Santiam-Chemawa No. 1 230-kV line in the existing right-of-way that crosses the 100-year floodplains of the North Santiam River and a tributary to the Pudding River. No impacts to the floodplains would occur because no construction activities would occur within the floodplains, and their floodplain characteristics would not be altered. The Proposed Action conforms to applicable State or local floodplain protection standards.

BPA will allow 15 days of public review after publication of this statement of findings before implementing the Proposed Action.

Determination: Based on the information in the EA, as summarized here, BPA determines that the Proposed Action is not a major Federal action significantly affecting the quality of the human environment within the meaning of NEPA, 42 U.S.C. 4321 et seq. Therefore, an EIS will not be prepared and BPA is issuing this FONSI.

Issued in Portland, Oregon, on January 29, 2002.
Alexandra B. Smith,
Vice President, Environment, Fish and Wildlife.

[FR Doc. 02-3090 Filed 2-7-02; 8:45 am]

BILLING CODE 6450-01-U